DEPARTMENT OF THE INTERIOR

Fish and Wildlife Service

[FWS-R1-ES-2008-N0200; 10120-1113-0000-C2]

Draft Recovery Plan for the Prairie Species of Western Oregon and Southwestern Washington

AGENCY: Fish and Wildlife Service, Interior.

ACTION: Notice of document availability for review and comment.

SUMMARY: The U.S. Fish and Wildlife Service announces the availability of the draft Recovery Plan for the Prairie Species of Western Oregon and Southwestern Washington for public review and comment. The listed species addressed in the recovery plan are: Fender's blue butterfly (Icaricia icarioides fenderi), Erigeron decumbens var. decumbens (Willamette daisy), Lomatium bradshawii (Bradshaw's lomatium), Lupinus sulphureus ssp. kincaidii (Kincaid's lupine), Sidalcea nelsoniana (Nelson's checker-mallow) and Castilleja levisecta (golden paintbrush).

ADDRESSES: Copies of the draft recovery plan are available by request from the U.S. Fish and Wildlife Service, Oregon Fish and Wildlife Office, 2600 SE 98th Avenue, Suite 100, Portland, Oregon 97266 (phone: 503-231-6179). An electronic copy of the draft recovery plan is also available at http://endangered.fws.gov/recovery/index.html#plans. Printed copies of the draft recovery plan will be available for distribution within 4 to 6 weeks.

FOR FURTHER INFORMATION CONTACT: Cat Brown, Fish and Wildlife Biologist, at the above Portland address and telephone number.

SUPPLEMENTARY INFORMATION:

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions necessary for the conservation and survival of the species, establish criteria for downlisting or delisting listed species, and estimate time and cost for implementing the measures needed for recovery.

The Act requires the development of recovery plans for endangered or threatened species unless such a plan would not promote the conservation of the species. Section 4(f) of the Act requires that public notice, and an opportunity for public review and comment, be provided during recovery plan development. The U.S. Fish and Wildlife Service (“we”) will consider all information presented during the public comment period on each new or revised recovery plan.

The native prairies of western Oregon and southwest Washington are among the most imperiled ecosystems in the United States. Six native prairie species in the region—one butterfly and five plants—have been added to the Federal List of Endangered and Threatened Wildlife and Plants since 1988. In this draft recovery plan, we develop recovery strategies and objectives for Fender's blue butterfly (Icaricia icarioides fenderi), Erigeron decumbens var. decumbens (Willamette daisy), Lomatium bradshawii (Bradshaw's lomatium), Lupinus sulphureus ssp. kincaidii (Kincaid's lupine), Sidalcea nelsoniana (Nelson's checker-mallow) and Castilleja levisecta (golden paintbrush). When completed, this plan will replace and supersede previously approved recovery plans for Lomatium bradshawii and Sidalcea nelsoniana. It will augment, but not replace, the existing recovery plan for Castilleja levisecta; this new Prairie Species Recovery Plan will provide recommendations for the reintroduction of Castilleja levisecta into its historical range in the Willamette Valley, consistent with the species' published recovery plan. In addition to recovery strategies for these six listed species, the plan will recommend conservation strategies for one candidate species, the Taylor's checkerspot butterfly (Euphydryas editha taylori), and another six plant species of concern: Delphinium leucophaeum (pale larkspur), Delphinium oreganum (Willamette Valley larkspur), Delphinium pavonaceum (peacock larkspur), Horkelia congesta ssp. congesta (shaggy horkelia), Sericocarpus rigidus (white-topped aster), and Sisyrinchium hitchcockii (Hitchcock's blue-eyed grass). All of the species addressed in this recovery plan are threatened by the continued degradation, loss and fragmentation of their native prairie ecosystems.

We developed the draft recovery plan in coordination with the Western Oregon and Southwestern Washington Prairie Species Recovery Team, which includes representatives from two Federal agencies (U.S. Fish and Wildlife Service and Bureau of Land Management), two state agencies (Washington Department of Natural Resources and Oregon Department of Transportation), the Confederated Tribes of the Grande Ronde Community of Oregon, Washington State University, and several other experts from the academic and private sectors.

Our recovery strategy for the species addressed in this recovery plan is to protect remaining fragments of upland and wet prairie habitats and to restore them to fully functioning prairie ecosystems. The draft recovery plan calls for viable populations of the listed prairie species to be protected in a series of recovery zones distributed across their historical ranges. Recovery actions will include habitat management, restoration of historical disturbance regimes, control of noxious nonnative plants, carefully planned reintroductions, population monitoring, active research, and public involvement and outreach. The recovery actions are designed to ameliorate threats and increase population sizes of Fender's blue butterfly, Lupinus sulphureus ssp. kincaidii, Erigeron decumbens var. decumbens, Lomatium bradshawii, Sidalcea nelsoniana, and Castilleja levisecta to achieve recovery goals, which, if successful, may allow their eventual delisting (removal from the List of Endangered and Threatened Wildlife and Plants).

The widespread loss and degradation of prairie habitats in western Oregon and southwestern Washington have been responsible for the decline of many other plant and animal species associated with these communities. We believe that a holistic, ecosystem management approach to the restoration of prairie habitats will not only contribute to the recovery of the listed prairie species, but will also contribute to the protection of populations of the associated prairie species of concern discussed in this plan, as well as other native prairie species.

Public Comments Solicited

We solicit written comments on the draft recovery plan. All comments received by the date specified above will be considered prior to approval of this plan. If you wish to comment, you may submit your comments and materials concerning this recovery plan by any of these methods:

1. You may submit written comments and information by mail, facsimile or in person to the Oregon Fish and Wildlife Office at the above address (see ADDRESSES).

2. You may send comments by electronic mail (e-mail) to: FW1PrairieRecoveryPlan@fws.gov. If you submit comments by e-mail, please submit them as an ASCII file and avoid the use of special characters and any form of encryption. Please also include your name and return address in your e-mail message.

Comments and materials received, as well as supporting documentation used in preparation of the recovery plan, will be available for inspection, during normal business hours at the above Portland address (see ADDRESSES).

Public Availability of Comments

Before including your address, phone number, e-mail address, or other personal identifying information in your comment, you should be aware that your entire comment, including your personal identifying information, may be made publicly available at any time. While we will try to honor your written request to withhold your personal identifying information from public review, we cannot guarantee that we will be able to do so.

Authority: The authority for this action is section 4(f) of the Endangered Species Act, 16 U.S.C. 1533(f).

Dated: September 3, 2008.
David J. Wesley,
Acting Regional Director, Region 1, U.S. Fish and Wildlife Service.

[FR Doc. E8-22173 Filed 9-19-08; 8:45 am]

BILLING CODE 4310-55-P